DEPARTMENT OF ENERGY

Federal Energy Regulatory Commission

[EG09-37-000]

Optim Energy Cedar Bayou 4, LLC; Notice of Effectiveness of Exempt Wholesale Generator Status

July 14, 2009.

Take notice that during the month of June 2009, the status of the above-captioned entities as Exempt Wholesale Generators became effective by operation of the Commission's regulations 18 CFR 366.7(a).

Kimberly D. Bose,
Secretary.

[FR Doc. E9-17337 Filed 7-21-09; 8:45 am]

BILLING CODE 6717-01-P